DEPARTMENT OF EDUCATION

Privacy Act of 1974; System of Records—National Longitudinal Transition Study-2 (NLTS2)

AGENCY: Institute of Education Sciences, Department of Education.

ACTION: Notice of a new system of records.

SUMMARY: In accordance with the Privacy Act of 1974, as amended (Privacy Act), the U.S. Department of Education (Department) publishes this notice of a new system of records entitled “National Longitudinal Transition Study-2 (NLTS2)” (18-13-23).

In 2001, the Department funded the NLTS2 to provide a national picture of the characteristics, experiences, and outcomes of secondary school students with disabilities as they complete secondary school and transition to young adulthood. NLTS2 includes the study of a sample of more than 11,000 youth from the population of 13 through 16 year olds receiving special education services in seventh grade or above in December of 2000. The sample is nationally representative of the types of disabilities, as defined by the 12 Federal special education disability categories, in this population.

DATES: The Department seeks comment on the new system of records described in this notice, in accordance with the requirements of the Privacy Act. We must receive your comments on the proposed routine uses for the system of records referenced in this notice on or before December 3, 2009.

The Department filed a report describing the new system of records covered by this notice with the Chair of the Senate Committee on Homeland Security and Governmental Affairs, the Chair of the House of Representatives Committee on Oversight and Government Reform, and the Administrator of the Office of Information and Regulatory Affairs, Office of Management and Budget (OMB) on October 29, 2009. This system of records will become effective at the later date of—(1) the expiration of the 40-day period for OMB review on December 8, 2009, unless OMB waives 10 days of the 40-day review period for compelling reasons shown by the Department, or (2) December 3, 2009, unless the system of records needs to be changed as a result of public comment or OMB review.

ADDRESSES: Address all comments about the proposed routine uses to Jacquelyn Buckley, PhD, National Center for Special Education Research, Institute of Education Sciences, U.S. Department of Education, 555 New Jersey Avenue, NW., room 510C, Washington, DC 20208-5550. If you prefer to send comments through the Internet, use the following address:comments@ed.gov.

You must include the term “National Longitudinal Transition Study-2 (NLTS2)” in the subject line of the electronic message.

During and after the comment period, you may inspect all comments about this notice at the U.S. Department of Education in room 510C, 555 New Jersey Avenue, NW., Washington, DC, between the hours of 8 a.m. and 4:30 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this notice. If you want to schedule an appointment for this type of aid, please contact the person listed under FOR FURTHER INFORMATION CONTACT.

FOR FURTHER INFORMATION CONTACT: Jacquelyn Buckley. Telephone number: (202) 219-2130. If you use a telecommunications device for the deaf (TDD), call the Federal Relay Service (FRS), toll free, at 1-800-877-8339.

Individuals with disabilities can obtain this document in an accessible format (e.g., braille, large print, audiotape, or computer diskette) on request to the contact person listed in this section.

SUPPLEMENTARY INFORMATION:

Introduction

The Privacy Act (5 U.S.C. 552a(e)(4)) requires the Department to publish in the Federal Register this notice of a new system of records maintained by the Department. The Department's regulations implementing the Privacy Act are contained in the Code of Federal Regulations (CFR) in part 5b of title 34.

The Privacy Act applies to information about an individual that is maintained in a system of records from which individually identifying information is retrieved by a unique identifier associated with each individual, such as a name or social security number. The information about each individual is called a “record,” and the system, whether manual or computer-based, is called a “system of records.”

The Privacy Act requires each agency to publish a system of records notice in the Federal Register and to submit, whenever the agency publishes a new system of records or makes a significant change to an established system of records, a report to the Administrator of the Office of Information and Regulatory Affairs, OMB. Each agency is also required to send copies of the report to the Chair of the House of Representatives Committee on Oversight and Government Reform and the Chair of the Senate Committee on Homeland Security and Governmental Affairs.

Electronic Access to This Document

You can view this document, as well as all other documents of this Department published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara.

Dated: October 29, 2009.
John Q. Easton,
Director, Institute of Education Sciences.

For the reasons discussed in the preamble, the Director of the Institute of Education Sciences (IES) of the U.S. Department of Education (Department) publishes a notice of a new system of records to read as follows:

SYSTEM NUMBER:

18-13-23

SYSTEM NAME:

National Longitudinal Transition Study-2 (NLTS2)

SECURITY CLASSIFICATION:

None.

SYSTEM LOCATIONS:

(1) SRI International, 333 Ravenswood Ave., Menlo Park, CA 94025-3493. (Contractor)

(2) Research Triangle Institute (RTI), 3040 Cornwallis Rd., Ragland Building, Research Triangle Park, NC 27709-2194. (Subcontractor to SRI)

CATEGORIES OF INDIVIDUALS COVERED BY THE SYSTEM:

The NLTS2 system contains records of a sample of more than 11,000 youth from the population of 13 through 16 year olds receiving special education services in seventh grade or above in December of 2000. The sample is nationally representative of the types of disabilities, as defined by the 12 Federal special education disability categories, in this population.

CATEGORIES OF RECORDS IN THE SYSTEM:

This system of records contains responses to surveys and interviews administered to students, parents, guardians, administrators, and teachers. The responses may include a student's background and demographic data (e.g., ethnicity, primary language spoken in the student's home), educational experiences, employment experiences, finances, aspirations, plans and goals, family variables (e.g., household income, number of adults living in the household, parental expectations for youth to attend postsecondary school), school characteristics, school programs, classroom experiences, adult services and supports, and early adult outcomes in employment, education, independence, and social domains. Records in this system of records also may include the student's achievement test scores and high school transcript data.

AUTHORITY FOR MAINTENANCE OF THE SYSTEM:

The evaluation being conducted is authorized under sections 171(b) and 173 of the Education Sciences Reform Act of 2002 (ESRA) (20 U.S.C. 9561(b) and 9563) and section 664(e) of the Individuals with Disabilities Education Act (20 U.S.C. 1464(e)).

PURPOSE(S):

The information contained in the records maintained in this system is used for the following purpose:

To describe the critical influences, contexts, and educational and post-high school experiences for students with disabilities as they complete secondary education and transition to adulthood. Specifically, this study will examine the sample group of secondary students in special education and: (a) Describe the characteristics of these students and their households; (b) describe these students' secondary school experiences in special education, including their experiences in school, school programs, related services, and extracurricular activities; (c) describe the experiences of these students once they leave secondary school, including their experiences in adult programs and services and social activities; (d) measure the secondary school and post-school outcomes of these students in the education, employment, social, and residential domains; and, e) identify factors in these students' secondary school and post-school experiences that contribute to more positive outcomes.

ROUTINE USES OF RECORDS MAINTAINED IN THE SYSTEM, INCLUDING CATEGORIES OF USERS AND THE PURPOSES OF SUCH USES:

The Department may disclose information contained in a record in this system of records under the routine uses listed in this system of records without the consent of the individual if the disclosure is compatible with the purposes for which the record was collected. The Department may make these disclosures on a case-by-case basis, or, if the Department has complied with the computer matching requirements of the Computer Matching and Privacy Protection Act of 1988, as amended, under a computer matching agreement. Any disclosure of individually identifiable information from a record in this system must also comply with the requirements of section 183 of the ESRA (20 U.S.C. 9573) providing for confidentiality standards that apply to all collection, reporting and publication of data by IES.

Contract Disclosure. If the Department contracts with an entity for the purpose of performing any function that requires disclosure of records in this system to employees of the contractor, the Department may disclose the records to only those employees. Before entering into such a contract, the Department will require the contractor to maintain Privacy Act safeguards, as required under 5 U.S.C. 552a(m), with respect to the records in the system.

DISCLOSURE TO CONSUMER REPORTING AGENCIES:

None.

POLICIES AND PRACTICES FOR STORING, RETRIEVING, ACCESSING, RETAINING, AND DISPOSING OF RECORDS IN THE SYSTEM:

STORAGE:

Records are maintained in a database on the contractors' secure servers and in other electronic storage media. Respondent name and contact information is stored separately from the rest of the data collected in this system.

RETRIEVABILITY:

Records in this system are indexed by a unique number assigned to each individual, which is cross-referenced by the individual's name. Records are retrieved by the individual's name or by the unique number.

SAFEGUARDS:

Access to the records is limited to authorized personnel who are briefed regarding confidentiality of the data, are required to sign a written statement attesting to their understanding of the significance of the confidentiality requirement, and have received Department of Education security clearances.

All physical access to the contractor and subcontractor sites where this system of records is maintained, is controlled and monitored by security personnel who check each individual entering the buildings for his or her employee or visitor badge.

The computer systems employed by the contractor and subcontractor offer a high degree of resistance to tampering and circumvention. Security systems limit data access to contract staff on a “need to know” basis, and control each individual user's ability to access and alter records within the system.

The contractor and subcontractor employees who “maintain” (including collect, maintain, use, or disseminate) data in this system of records must comply with the requirements of the confidentiality standards in section 183 of the ESRA (20 U.S.C. 9573).

RETENTION AND DISPOSAL:

In accordance with Part 3, Item 4.b (NC-12-75-1, Item 10b) of the Department's Records Disposition Schedules, records are destroyed upon verification of transfer to electronic format or upon completion of the report.

SYSTEM MANAGER AND ADDRESS:

Contracting Officer's Representative (COR), National Longitudinal Transition Study-2 (NLTS2), National Center for Special Education Research, Institute of Education Sciences, U.S. Department of Education, 555 New Jersey Avenue, NW., Washington, DC 20208-5550.

NOTIFICATION PROCEDURE:

If you wish to determine whether a record exists regarding you in the system of records, contact the system manager at the address listed under SYSTEM MANAGER AND ADDRESS. Your request must meet the requirements of the regulations in 34 CFR 5b.5, including proof of identity.

RECORD ACCESS PROCEDURE:

If you wish to gain access to your record in the system of records, contact the system manager at the address listed under SYSTEM MANAGER AND ADDRESS. Requests should contain your full name, address, and telephone number. Your request must meet the requirements of the regulations in 34 CFR 5b.5, including proof of identity.

CONTESTING RECORD PROCEDURE:

If you wish to contest the content of a record regarding you in the system of records, contact the system manager at the address listed under SYSTEM MANAGER AND ADDRESS. Your request must meet the requirements of the regulations in 34 CFR 5b.7, including proof of identity.

RECORD SOURCE CATEGORIES:

Information maintained in this system of records is collected from a variety of sources, including parents, guardians, teachers, principals, school records, and students themselves. Records in this system may be collected through methods such as: (a) Telephonic interviews with parents or guardians of students that focus on student and family characteristics, non-school activities, satisfaction with school programs, and activities after high school; (b) telephonic interviews or written questionnaires from students about their experiences and outcomes; (c) teacher surveys about classroom practices and student performance in the classroom; (d) surveys of school programs completed by teachers knowledgeable about the overall program and student performance in a broader context (e.g., instructional settings that comprise a student's whole experience, vocational education, transition planning experiences, and accommodations received); (e) surveys about the characteristics of the school, including aggregate measures of school performance to use as supporting data for reports; (f) student assessments, which involve a direct assessment of the student, including measures of the student's reading and math skills, vocabulary, science and social studies content knowledge, as well as interviews with the student about self-concept and self-determination, or alternate assessments completed by a knowledgeable adult when students are unable to complete a direct assessment due to cognitive or behavioral limitations; and, (g) student transcripts, including courses taken, grades, and attendance.

EXEMPTIONS CLAIMED FOR THIS SYSTEM:

None.

[FR Doc. E9-26430 Filed 11-2-09; 8:45 am]

BILLING CODE 4000-01-P